NUCLEAR REGULATORY COMMISSION

[NRC-2013-0073]

Japan Lessons-Learned Project Directorate Interim Staff Guidance JLD-ISG-2013-01; Guidance for Estimating Flooding Hazards Due to Dam Failure

AGENCY: Nuclear Regulatory Commission.

ACTION: Interim staff guidance; issuance.

SUMMARY: The U.S. Nuclear Regulatory Commission (NRC) is issuing the Final Japan Lessons-Learned Project Directorate Interim Staff Guidance (JLD-ISG), JLD-ISG-2013-01, “Guidance for Estimating Flooding hazards due to Dam Failure” (Agencywide Documents Access and Management System (ADAMS) Accession No. ML13151A153). This ISG provides guidance and clarification to assist nuclear power reactors applicants and licensees with the flooding hazard reassessment in response to Enclosure 2 of the NRC staff's request for information, “Request for Information Pursuant to section 50.54(f) of Title 10 of the Code of Federal Regulations (10 CFR), Regarding Recommendations 2.1, 2.3, and 9.3 of the Near-Term Task Force Review of Insights from the Fukushima Dai-ichi Accident,” dated March 12, 2012 (ADAMS Accession No. ML12053A340).

ADDRESSES: Please refer to Docket ID NRC-2013-0073 when contacting the NRC about the availability of information regarding this document. You may access information related to this document, which the NRC possesses and are publicly-available, using any of the following methods:

• Federal Rulemaking Web site: Go to http://www.regulations.gov and search for Docket ID NRC-2013-0073. Address questions about NRC dockets to Carol Gallagher; telephone: 301-287-3442; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The JLD-ISG-2013-01 is available under ADAMS Accession No. ML13151A153.

• NRC's PDR: You may examine and purchase copies of public documents at the NRC's PDR, Room O1-F21, One White Flint North, 11555 Rockville Pike, Rockville, MD 20852.

• NRC's Interim Staff Guidance Web site: Go to http://www.nrc.gov/reading-rm/doc-collections/isg/japan-lessons-learned.html and refer to JLD-ISG-2013-01.

FOR FURTHER INFORMATION CONTACT: Mr. G. Edward Miller, Japan Lessons-Learned Project Directorate, Office of Nuclear Reactor Regulation, U.S. Nuclear Regulatory Commission, Washington, DC 20555-0001; telephone: 301-415-2481; email: ed.miller@nrc.gov.

SUPPLEMENTARY INFORMATION:

Background Information

The NRC staff developed JLD-ISG-2013-01 to provide guidance and clarification to assist nuclear power reactor licensees, applicants for power reactor licenses, and holders of construction permits in active or deferred status with the evaluation of flooding hazards due to dam failure.

On March 11, 2011, a magnitude 9.0 earthquake struck off the coast of the Japanese island of Honshu. The earthquake resulted in a large tsunami, estimated to have exceeded 14 meters (45 feet) in height, that inundated the Fukushima Dai-ichi nuclear power plant site. The earthquake and tsunami produced widespread devastation across northeastern Japan and significantly affected the infrastructure and industry in the northeastern coastal areas of Japan. When the earthquake occurred, Fukushima Dai-ichi Units 1, 2, and 3 were in operation and Units 4, 5, and 6 were shut down for routine refueling and maintenance activities. The Unit 4 reactor fuel was offloaded to the Unit 4 spent fuel pool. Following the earthquake, the three operating units automatically shut down and offsite power was lost to the entire facility. The emergency diesel generators (EDG) started at all six units providing alternating current (ac) electrical power to critical systems at each unit. The facility response to the earthquake appears to have been normal. Approximately 40 minutes following the earthquake and shutdown of the operating units, however, the first large tsunami wave inundated the site, followed by additional waves. The tsunami caused extensive damage to site facilities and resulted in a complete loss of all ac electrical power at Units 1 through 5, a condition known as station blackout. In addition, all direct current electrical power was lost early in the event on Units 1 and 2, and after some period of time at the other units. Unit 6 retained the function of one air-cooled EDG. Despite their actions, the operators lost the ability to cool the fuel in the Unit 1 reactor after several hours, in the Unit 2 reactor after about 70 hours, and in the Unit 3 reactor after about 36 hours, resulting in damage to the nuclear fuel shortly after the loss of cooling capabilities.

Following the events at the Fukushima Dai-ichi nuclear power plant, the NRC established a senior-level agency task force referred to as the Near-Term Task Force (NTTF). The NTTF was tasked with conducting a systematic and methodical review of the NRC's regulations and processes, and determining if the agency should make additional improvements to these programs in light of the events at Fukushima Dai-ichi. As a result of this review, the NTTF developed a comprehensive set of recommendations, documented in SECY-11-0093, “Near-Term Report and Recommendations for Agency Actions Following the Events in Japan,” dated July 12, 2011 (ADAMS Accession No. ML11186A950). These recommendations were enhanced by the NRC staff following interactions with stakeholders. Documentation of the staff's efforts is contained in SECY-11-0124, “Recommended Actions to be Taken Without Delay from the Near-Term Task Force Report,” dated September 9, 2011 (ADAMS Accession No. ML11245A158), and SECY-11-0137, “Prioritization of Recommended Actions to be Taken in Response to Fukushima Lessons Learned,” dated October 3, 2011 (ADAMS Accession No. ML11272A111).

As directed by the Commission's staff requirements memorandum (SRM) for SECY-11-0093, dated August 19, 2011 (ADAMS Accession No. ML112310021), the NRC staff reviewed the NTTF recommendations within the context of the NRC's existing regulatory framework and considered the various regulatory vehicles available to the NRC to implement the recommendations. SECY-11-0124 and SECY-11-0137 established the staff's prioritization of the recommendations based upon the potential for each recommendation to enhance safety.

As part of the SRM for SECY-11-0124, dated October 18, 2011, the Commission approved the staff's proposed actions, including the development of three information requests under 10 CFR 50.54(f). The information collected would be used to support the NRC staff's evaluation of whether further regulatory action was needed in the areas of seismic and flooding design and emergency preparedness.

In addition to Commission direction, the Consolidated Appropriations Act, Public Law 112-074, was signed into law on December 23, 2011. Section 402 of the law directs the NRC to require licensees to reevaluate their design basis for external hazards.

In response to the aforementioned Commission and Congressional direction, the NRC issued a request for information to all power reactor licensees and holders of construction permits under 10 CFR part 50 on March 12, 2012. The letter dated March 12, 2012, includes a request that licensees reevaluate flooding hazards at nuclear power plant sites using updated flooding hazard information and present-day regulatory guidance and methodologies. The letter also requests the comparison of the reevaluated hazard to the current design basis at the site for each potential flood mechanism. If the reevaluated flood hazard at a site is not bounded by the current design basis, licensees are requested to perform an integrated assessment. The integrated assessment will evaluate the total plant response to the flood hazard, considering multiple and diverse capabilities such as physical barriers, temporary protective measures, and operational procedures. The NRC staff will review the licensees' responses to this request for information and determine whether regulatory actions are necessary to provide additional protection against flooding.

Numerous public meetings were held to receive stakeholder input on the proposed guidance prior to its issuance formally for public comment. On April 25, 2013 (78 FR 24439), the NRC requested public comments on draft JLD-ISG-2013-01. In public meetings on May 2, 2013, and May 22, 2013, the NRC staff interacted extensively with external stakeholders to discuss, understand, and resolve public comments. Modifications were made to the text of the ISG in response to the public comments and the outcomes of the public meetings. Full detail of the comments, staff responses, and the staff's bases for changes to the ISG are contained in “NRC Response to Public Comments” to JLD-ISG-2013-01, which can be found under ADAMS Accession No. ML13151A161.

Backfitting and Issue Finality

This ISG does not constitute backfitting as defined in 10 CFR 50.109 (the Backfit Rule) and is not otherwise inconsistent with the issue finality provisions in 10 CFR part 52, “Licenses, Certifications, and Approvals for Nuclear Power Plants.” This ISG provides guidance on an acceptable method for implementing the March 12, 2012, request for information. Neither the information request nor the ISG require the modification or addition to systems, structures, or components, or design of a facility. Applicants and licensees may voluntarily use the guidance in JLD-ISG-2013-01 to comply with the request for information. The information received by this request may, at a later date, be used in the basis for imposing a backfit. The appropriate backfit review process would be followed at that time.

Congressional Review Act

This interim staff guidance is a rule as designated in the Congressional Review Act (5 U.S.C. 801-808). OMB has found that this is not a major rule in accordance with the Congressional Review Act.

Dated at Rockville, Maryland, this 29th day of July 2013.
For The Nuclear Regulatory Commission.
David L. Skeen,
Director, Japan Lessons-Learned Project Directorate, Office of Nuclear Reactor Regulation.

[FR Doc. 2013-19057 Filed 8-6-13; 8:45 am]

BILLING CODE 7590-01-P